NATIONAL FOUNDATION ON THE ARTS AND HUMANITIES

SES Performance Review Board

AGENCY: National Endowment for the Arts.

ACTION: Notice.

SUMMARY: Notice is hereby given of the names of members of the Performance Review Board for the National Endowment for the Arts. This notice supersedes all previous notices of the PRB membership of the Agency.

DATES: Upon publication.

FOR FURTHER INFORMATION CONTACT: Craig McCord, Sr., Director of Human Resources, National Endowment for the Arts, 1100 Pennsylvania Avenue, NW., Room 627, Washington, DC 20506, (202) 682-5473.

SUPPLEMENTARY INFORMATION: See 4314 (c)(1) through (5) of Title 5, U.S.C., requires each agency to establish, in accordance with regulations prescribed by the Office of Personnel Management, one or more SES Performance Review Boards. The Board shall review and evaluate the initial appraisal of a senior executive's performance by the supervisor, along with any response by the senior executive, and make recommendations to the appointing authority relative to the performance of the senior executive.

The following persons have been selected to serve on the Performance Review Board of the National Endowment for the Arts (NEA):

Joan Shigekawa—Senior Deputy Chairman.

Larry Baden—Deputy Chairman for Management and Budget.

Michael Burke—Chief Information Officer.

Sunil Iyengar—Director, Research & Analysis.

William O'Brien—Senior Advisor for Program Innovation.

Kathleen Edwards,
Director of Administrative Services, National Endowment for the Arts.

[FR Doc. 2010-23770 Filed 9-22-10; 8:45 am]

BILLING CODE 7537-01-P